DEPARTMENT OF TRANSPORTATION

Federal Aviation Administration

Notice of Opportunity for Public Comment on Surplus Property Release at Smyrna Airport, Smyrna, Tennessee

AGENCY: Federal Aviation Administration (FAA), DOT.

ACTION: Notice.

SUMMARY: Under the provisions of 49 U.S.C. 47153(c), notice is being given that the FAA is considering a request from the Smyrna/Rutherford County Airport Authority to waive the requirement that a 23.934-acre parcel of surplus property, located at the Smyrna Airport, be used for aeronautical purposes.

DATES: Comments must be received on or before June 4, 2001.

ADDRESSES: Comments on this notice may be mailed or delivered in triplicate to the FAA at the following address: Memphis Airports District Office, 3385 Airways Boulevard, Suite 302, Memphis, TN 38116-3841.

In addition, one copy of any comments submitted to the FAA must be mailed or delivered to Mr. John R. Black, Executive Director of the Smyrna/Rutherford County Airport Authority at the following address: 660 Fitzhugh Blvd., Smyrna, TN 37167.

FOR FURTHER INFORMATION CONTACT: Cynthia K. Wills, Program Manager, Memphis Airports District Office, 3385 Airways Boulevard, Suite 302, Memphis, TN 38116-3841, (901) 544-3495 extension 16. The application may be reviewed in person at this same location.

SUPPLEMENTARY INFORMATION: The FAA is reviewing a request by Smyrna/Rutherford County Airport Authority to release 25.934 acres of surplus property at the Smyrna Airport. The property will be purchased by the Town of Smyrna and used for the expansion of the Smyrna Wastewater Treatment Plant. The property fronts East Sam Ridley Parkway and is adjacent and east of the existing Smyrna Wastewater Treatment Plan. The expansion activities will include two(2) aeration basins and two(2) clarifying ponds. The net proceeds from the sale of this property will be used for airport purposes. The USDA has evaluated the proposed use of the land for expansion of the wastewater treatment facility and has indicated the proposed usage will be compatible with airport operations if USDA recommendations are followed.

Any person may inspect the request in person at the FAA office listed above under FOR FURTHER INFORMATION CONTACT. In addition, any person may, upon request, inspect the request, notice and other documents germane to the request in person at the Smyrna/Rutherford County Airport Authority.

Issued in Memphis, Tennessee, on April 26, 2001.
Charles L. Harris,
Assistant Manager, Memphis Airports District Office, Southern Region.

[FR Doc. 01-11264 Filed 5-3-01; 8:45 am]

BILLING CODE 4910-13-M